DEPARTMENT OF THE INTERIOR

Bureau of Land Management

[LLCAD070000, L91310000, E10000]

Notice of Availability of the Final Environmental Impact Statement for the West Chocolate Mountains Renewable Energy Evaluation Area, Imperial County, CA, and the Proposed California Desert Conservation Plan Amendment

AGENCY: Bureau of Land Management, Interior.

ACTION: Notice.

SUMMARY: In accordance with the National Environmental Policy Act of 1969, as amended, and the Federal Land Policy and Management Act of 1976, as amended, the Bureau of Land Management (BLM) has prepared a Final Environmental Impact Statement (EIS) for the West Chocolate Mountains Renewable Energy Evaluation Area (REEA) and a California Desert Conservation Area (CDCA) Proposed Plan Amendment, and by this notice is announcing its availability.

DATES: The BLM's planning regulations state that any person who meets the conditions as described in the regulations may protest the BLM's proposed plan amendment. A person who meets the conditions and files a protest must file the protest within 30 days of the date that the Environmental Protection Agency publishes its Notice of Availability in the Federal Register.

ADDRESSES: Copies of the West Chocolate Mountains Renewable Energy Evaluation Area Final EIS/Proposed Plan Amendment have been sent to affected Federal, State, local government agencies, tribal governments and other stakeholders. Copies are available for public inspection at the El Centro Field Office at 1661 S. 4th Street, El Centro, CA; California Desert District Office at 22835 Calle San Juan de Los Lagos, Moreno Valley, CA; and the Palm Springs—South Coast Field Office at 1201 Bird Center Drive, Palm Springs, CA. Interested persons may also review the Final EIS/Proposed Plan Amendment at http://www.blm.gov/ca/st/en/fo/elcentro/nepa/wcm.html. All protests must be in writing and mailed to one of the following addresses:

Regular mail | Overnight mail
BLM Director (210), Attention: Brenda Williams, P.O. Box 71383, Washington, DC 20024-1383 | BLM Director (210), Attention: Brenda Williams, 20 M Street SE., Room 2134LM, Washington, DC 20003.

FOR FURTHER INFORMATION CONTACT: Sandra McGinnis, BLM Planning and Environmental Coordinator, telephone 916-978-4427; address 2800 Cottage Way, Suite w-1623, Sacramento, CA 95825; email wcm_comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Final EIS/Proposed Plan Amendment analyzes the potential environmental impacts of making available approximately 18,765 acres of BLM-managed surface lands in the West Chocolate Mountains REEA for testing and developing solar and wind energy facilities and for leasing approximately 20,027 acres of Federal mineral estate near Niland, California, for geothermal energy testing and development. The Final EIS also analyzes the potential environmental impacts of approving a pending geothermal lease application in the REEA.

The purpose of the proposed action is to facilitate appropriate development of geothermal, solar, and wind energy in the REEA and make land use plan decisions regarding the potential location, development, and management of those resources to balance competing uses and continue to achieve the resource condition goals for all resources in the planning area. The analysis includes consideration of the possible environmental consequences associated with a reasonably foreseeable development scenario, as well as possible conditions upon or restrictions for development that may be established to protect certain resource values.

The Final EIS/Proposed Plan Amendment analyzed six alternatives. The preferred alternative is Alternative 6—Geothermal Development Emphasis with Moderate Solar Development and No Wind Development. Under this alternative, the CDCA Plan would be amended to identify areas in the West Chocolate REEA as suitable for geothermal leasing and development and solar energy development, subject to constraints related to the presence of sensitive resources. Standard stipulations would be required for leasing and development, as well as a special stipulation for groundwater usage that would require preparation of a Water Supply Assessment under State law SB-610. Proposed renewable energy development that would require high water usage would not be authorized. The CDCA Plan would be amended to identify the West Chocolate REEA as unsuitable for wind energy development due to conflicts with the Chocolate Mountains Aerial Gunnery Range fly zone. Under the preferred alternative, overall development also would be managed with lands east of the Coachella Canal subject to a disturbance cap of 10 percent to preserve wildlife habitat, and the west side of the Coachella Canal identified as a Solar Energy Zone (SEZ). No projects would be authorized at this time. The principal issues identified during scoping and public review included Native American concerns; potential land use conflicts including recreation; cumulative impacts considering existing, proposed, and potential geothermal projects in the area; and potential impacts on cultural resources, wildlife, visual resources, and surface and groundwater resources. The Final EIS addresses other issues such as geology, mining, vegetation, threatened or endangered species, air quality, noise, transportation, human health and safety, and social and economic issues, as well as issues raised during the scoping process.

Comments on the Draft Resource Management Plan Amendment/Draft EIS received from the public and internal BLM review were considered and incorporated as appropriate into the Final EIS/Proposed Plan Amendment. Public comments resulted in the addition of clarifying text, but did not significantly change proposed land use plan decisions.

Instructions for filing a protest with the Director of the BLM regarding the Final EIS/Proposed Plan Amendment may be found in the “Dear Reader” letter of the Final EIS and CDCA Plan Amendment for the West Chocolate Mountains REEA and at 43 CFR 1610.5-2. Email and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at 202-245-0028, and emails to Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2; 43 CFR 1610.5

Cynthia Staszak,
Associate Deputy State Director.

[FR Doc. 2012-28929 Filed 11-29-12; 8:45 am]

BILLING CODE 4310-40-P